DEPARTMENT OF AGRICULTURE

Forest Service

Chequamegon Resource Advisory Committee

AGENCY: Forest Service, USDA.

ACTION: Notice of meeting.

SUMMARY: The Chequamegon Resource Advisory Committee will meet in Park Falls, Wisconsin. The committee is authorized under the Secure Rural Schools and Community Self-Determination Act (Pub. L 112-141) (the Act) and operates in compliance with the Federal Advisory Committee Act. The purpose of the committee is to improve collaborative relationships and to provide advice and recommendations to the Forest Service concerning projects and funding consistent with title II of the Act. The meeting is open to the public. The purpose of the meeting is to review and recommend projects authorized under title II of the Act.

DATES: The meeting will be held September 14, 2012, and will begin at 10:00 a.m.

ADDRESSES: The meeting will be held at the Forest Service Park Falls Office, Large Conference Room, 1170 4th Ave. South, Park Falls, WI.

Written comments may be submitted as described under SUPPLEMENTARY INFORMATION. All comments, including names and addresses when provided, are placed in the record and are available for public inspection and copying. The public may inspect comments received at Chequamegon-Nicolet National Forest, 113 East Bayfield St., Washburn, WI 54891. Please call ahead to 715-373-2667 to facilitate entry into the building to view comments.

FOR FURTHER INFORMATION CONTACT: Sarah Holmes, RAC coordinator, USDA, Chequamegon-Nicolet National Forest, 113 East Bayfield St., Washburn, WI 54891; (715) 373-2667; Email sarahholmes@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: (1) Review and status updates on approved Title II projects (2) Recommend funding of Title II project proposals in accordance with Public Law 110-343; and (3) Public Comment. The full agenda may be previewed at https://fsplaces.fs.fed.us/fsfiles/unit/wo/secure_rural_schools.nsf/Web_Agendas?OpenView&Count=1000&RestrictToCategory=Chequamegon. Anyone who would like to bring related matters to the attention of the committee may file written statements with the committee staff before or after the meeting. The agenda will include time for people to make oral statements of three minutes or less. A summary of the meeting will be posted at the above Web site within 21 days of the meeting.

Meeting Accommodations: If you are a person requiring reasonable accommodation, please make requests in advance by contacting the person listed under FOR FURTHER INFORMATION CONTACT. All reasonable accommodation requests are managed on a case by case basis.

Dated: August 9, 2012.
Paul I.V. Strong,
Forest Supervisor.

[FR Doc. 2012-20109 Filed 8-15-12; 8:45 am]

BILLING CODE 3410-11-P